DEPARTMENT OF TRANSPORTATION

Office of the Secretary

Notice of Applications for Certificates of Public Convenience and Necessity and Foreign Air Carrier Permits Filed Under Subpart B (Formerly Subpart Q) During the Week Ending March 12, 2004

The following Applications for Certificates of Public Convenience and Necessity and Foreign Air Carrier Permits were filed under subpart B (formerly subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2004-17264.

Date Filed: March 8, 2004.

Due Date for Answers, Conforming Applications, or Motion to Modify Scope: March 29, 2004.

Description: Application of JetBlue Airways Corporation, requesting a certificate of public convenience and necessity to engage in foreign scheduled air transportation of persons, property and mail from the United States to the Bahamas, Bermuda, Canada, the Dominican Republic and Jamaica.

Docket Number: OST-2004-17311.

Date Filed: March 10, 2004.

Due Date for Answers, Conforming Applications, or Motion to Modify Scope: March 31, 2004.

Description: Application of Omega Air Holdings, LLC, d/b/a Omega Air Cargo, requesting a certificate of public convenience and necessity to engage in interstate scheduled and charter all-cargo operations.

Docket Number: OST-2004-17312.

Date Filed: March 10, 2004.

Due Date for Answers, Conforming Applications, or Motion to Modify Scope: March 31, 2004.

Description: Application of Omega Air Holdings, LLC, d/b/a Omega Air Cargo, requesting a certificate of public convenience and necessity to engage in foreign charter all-cargo operations.

Docket Number: OST-2004-17315.

Date Filed: March 10, 2004.

Due Date for Answers, Conforming Applications, or Motion to Modify Scope: March 31, 2004.

Description: Application of Cargojet Airways Ltd. d/b/a Starjet Airways, requesting a foreign air carrier permit to engage in charter and scheduled foreign air transportation of persons, property, and mail between any point or points in Canada and any point or points in the United States, and other charter foreign air transportation.

Andrea M. Jenkins,
Program Manager, Docket Operations, Federal Register Liaison.

[FR Doc. 04-6860 Filed 3-25-04; 8:45 am]

BILLING CODE 4910-62-P